ENVIRONMENTAL PROTECTION AGENCY

[EPA-HQ-OW-2021-0128; FRL—8951-01-OMS]

Information Collection Request Submitted to OMB for Review and Approval; Comment Request; Clean Watersheds Needs Survey (CWNS) (Reinstatement)

AGENCY: Environmental Protection Agency (EPA).

ACTION: Notice.

SUMMARY: The Environmental Protection Agency (EPA) has submitted an information collection request (ICR), Clean Watersheds Needs Survey (EPA ICR Number 0318.13, OMB Control Number 2040-0050) to the Office of Management and Budget (OMB) for review and approval in accordance with the Paperwork Reduction Act. This is a request for approval of reinstatement a previously approved ICR. Public comments were previously requested via the Federal Register on March 1st, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 7, 2021.

ADDRESSES: Submit your comments, referencing Docket ID Number EPA-HQ-OW-2021-0128 online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Joshua Klein, Office of Water, State Revolving Fund Branch, (4204M), Environmental Protection Agency, 1200 Pennsylvania Ave. NW, Washington, DC 20460; telephone number: (202) 564-8616; email address: klein.joshua@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Watersheds Needs Survey (CWNS) is required by Clean Water Act (CWA) Sections 205(a) and 516. It is a periodic inventory of existing and planned publicly owned wastewater conveyance and treatment facilities, combined sewer overflow correction, stormwater management and other water pollution control facilities in the United States, as well as an estimate of how many of these facilities need to be built. The CWNS is a joint effort between EPA and the states. The CWNS collects cost and technical data from states that are associated with publicly owned treatment works (POTWs) and other water pollution control facilities, existing and planned. The respondents who provide this information to EPA are state agencies responsible for environmental pollution control and local facility contacts who provide documentation to the states. Periodically, the states request data or documentation from contacts at the facility or local government level. These respondents are referred to as facilities.

No confidential information is used, nor is sensitive information collected that would be protected from release under the Public Information Act. EPA achieves national consistency in the final results through the application of uniform guidelines and validation techniques.

Form Numbers: None.

Respondents/affected entities: States, Territories, and Local Facilities.

Respondent's obligation to respond: Voluntary.

Estimated number of respondents: 56 States and Territories, 5,349 Local Facilities (total).

Frequency of response: Every 4 years.

Total estimated burden: 9,645 hours (per year). Burden is defined at 5 CFR 1320.03(b).

Total estimated cost: $505,004 (per year), includes $0 annualized capital or operation & maintenance costs.

Changes in the Estimates: There is an increase of 541 hours and $134,820 in the total estimated respondent burden compared with the ICR previously approved by OMB. This increase is based upon an increase in facility universe, as well as an adjustment in labor rates and benefits.

Courtney Kerwin,
Director, Regulatory Support Division.

[FR Doc. 2021-19312 Filed 9-3-21; 8:45 am]

BILLING CODE 6560-50-P